DEPARTMENT OF ENERGY

Federal Energy Regulatory Commission

[Docket No. EC03-37-000, et al.]

Exelon Generation Company, LLC, et al. Electric Rate and Corporate Filings

January 2, 2003.

The following filings have been made with the Commission. The filings are listed in ascending order within each docket classification.

1. Exelon Generation Company, LLC

[Docket No. EC03-37-000]

Take notice that on December 23, 2002, Exelon Corporation, Exelon Ventures Company, LLC, and Exelon Generation Company, LLC, filed an application with the Federal Energy Regulatory Commission (Commission) requesting authorization from the Commission to implement a plan of corporate reorganization.

Comment Date: January 13, 2003.

2. Idaho Power Company and IDACORP Energy, L.P.,

[Docket No. EC03-38-000]

Take notice that on December 23, 2002, Idaho Power Company (Idaho Power) and IDACORP Energy, L.P. (IELP, collectively, Applicants) filed an Application for Commission Approval of Disposition of Jurisdictional Facilities under Section 203 of the Federal Power Act. The jurisdictional facilities that are the subject of the Application are a wholesale power sales agreement and transactions (Truckee Agreement and Transactions) between Idaho Power and Truckee-Donner Public Utility District. By their Application, Applicants seek Commission approval for the assignment of the Truckee Agreement and Transactions from Idaho Power to IELP.

Comment Date: January 13, 2003.

3. Calpine Energy Services, L.P. Calpine Northbrook Energy Marketing, LLC

[Docket No. EC03-39-000]

Take notice that on December 24, 2002, Calpine Energy Services, L.P. (CES) and Calpine Northbrook Energy Marketing, LLC (CNEM) tendered for filing an application under section 203 of the Federal Power Act for approval of the assignment by CES to CNEM of a wholesale power sales agreement for power purchase and sale transactions between Morgan Stanley Capital Group Inc., and CES.

Comment Date: January 14, 2003.

4. ITC Holdings Corp., et al.

[Docket Nos. EC03-40-000 and ER03-343-000]

Take notice that on December 24, 2002, ITC Holdings Corp. (ITC Holdings), ITC Holdings Limited Partnership, International Transmission Company (International Transmission), DTE Energy, Inc. (DTE Energy), and The Detroit Edison Company (Detroit Edison) submitted a joint application pursuant to Section 203 of the Federal Power Act (FPA) seeking all authorizations and approvals necessary for the disposition of jurisdictional facilities in order for DTE Energy to sell, and ITC Holdings to purchase, all of the outstanding capital stock of International Transmission. In addition, pursuant to FPA Section 205 and part 35 of the Commission's regulations, the joint application tenders for filing proposed rates for International Transmission as an independent transmission company, and certain operating and interconnection agreements between International Transmission and Detroit Edison.

Comment Date: January 14, 2003.

5. New England Power Pool

[Docket No. ER03-291-000]

Take notice that on December 18 , 2002, the New England Power Pool (NEPOOL) Participants Committee submitted the Eighty-Eighth Agreement Amending New England Power Pool Agreement, which changes the formula in Scheduling 16 of the NEPOOL Open Access Transmission Tariff (the NEPOOL Tariff) for determining the compensation owners of eligible generators will receive for providing black-start related system restoration and planning services to NEPOOL pursuant to Schedule 16. A January 1, 2003 effective date was requested for each of these Agreements.

The NEPOOL Participants Committee states that copies of these materials were sent to the NEPOOL Participants, Non-Participant Transmission Customers and the New England State governors and regulatory commissions.

Comment Date: January 10, 2003.

6. Nevada Power Company

[Docket No. ER03-340-000]

Take notice that on December 26, 2002, Nevada Power Company (Nevada Power) tendered for filing with the Federal Energy Regulatory Commission (Commission) three services agreements:

1. Service Agreement No. 100 to the Sierra Pacific Resources Operating Companies' FERC Electric Tariff, First Revised Volume No. 1. This Service Agreement is an executed Transmission Service Agreement between Nevada Power and Reliant Energy Services, Inc. (Reliant).

2. Service Agreement No. 101A to the Sierra Pacific Resources Operating Companies' FERC Electric Tariff, First Revised Volume No. 1. This Service Agreement is an executed Transmission Service Agreement between Nevada Power and Pinnacle West Energy Company (Pinnacle West).

3. Service Agreement No. 101B to the Sierra Pacific Resources Operating Companies' FERC Electric Tariff, First Revised Volume No. 1. This Service Agreement is an executed Transmission Service Agreement between Nevada Power and Southern Nevada Water Authority (SNWA).

Comment Date: January 16, 2003.

7. Arizona Public Service Company

[Docket No. ER03-347-000]

Take notice that on December 30, 2002, Arizona Public Service Company (APS) tendered for filing a revised Agreement with the City of Williams (Williams) which terminates Service Schedule A effective December 31, 2002 at midnight of APS-FERC Rate Schedule No. 192.

APS states that copies of this filing have been served on Williams and the Arizona Corporation Commission.

Comment Date: January 21, 2003.

8. Arizona Public Service Company

[Docket No. ER03-348-000]

Take notice that on December 30, 2002, Arizona Public Service Company (APS) tendered for filing a request for regulatory approval to change rates to its Long-Term Power Transactions Agreement with PacifiCorp (PAC) applicable under the APS-FERC Rate Schedule No. 182.

APS states that copies of this filing have been served on PAC, the California Public Utilities Commission, the Public Utility Commission of Oregon, the Utah Public Service Commission, the Washington Utilities and Transportation Commission, the Montana Public Service Commission, the Public Service Commission of Wyoming, the Idaho Public Utilities Commission, and the Arizona Corporation Commission.

Comment Date: January 21, 2003.

9. Central Maine Power Company

[Docket No. ER03-349-000]

Take notice that on December 30, 2002, Central Maine Power Company (CMP) filed with the Federal Energy Regulatory Commission (Commission), pursuant to Section 205 of the Federal Power Act, an executed S.D. Warren Somerset Entitlement Agreement, effective as of March 1, 2003, and designated as Original FERC Rate Schedule No. 201. In addition, CMP requested confidential treatment for certain competitively sensitive material contained in the Agreement and in Exhibit B to CMP's filing.

Comment Date: January 21, 2003.

10. Wisconsin River Power Company

[Docket No. ER03-350-000]

Take notice that on December 30, 2002, Wisconsin River Power Company (WRPCo or the Company) tendered for filing Second Revised Rate Schedule FERC No. 2 (Second Revised Rate Schedule) by and among WRPCo and Consolidated Water Power Company (CWPCo) and Wisconsin Public Service Corporation (WPS) and Wisconsin Power and Light Company (WP&L). The Second Revised Rate Schedule facilitates the sale of power by WRPCo to CWPCo, WPS and WP&L.

The Company requests that the Commission waive its notice of filing requirements to allow the Second Revised Rate Schedule to become effective as of December 31, 2002.

WRPCo states that copies of the filing were served upon CWPCo, WPS, WP&L, the Public Service Commission of Wisconsin and the Michigan Public Service Commission.

Comment Date: January 21, 2003.

11. Wisconsin River Power Company

[Docket No. ER03-351-000]

Take notice that on December 30, 2002, Wisconsin River Power Company (WRPCo or the Company) tendered for filing an Original Rate Schedule FERC No. 3 (Rate Schedule) by and among WRPCo and Wisconsin Public Service Corporation (WPS) and Wisconsin Power and Light Company (WP&L) (collectively, the Purchasers). The Rate Schedule sets forth the rates, terms and conditions under which the Purchasers will obtain electric capacity and energy from WRPCo's generating unit.

The Company requests that the Commission waive its notice of filing requirements to allow the Rate Schedule to become effective as of December 31, 2002.

WRPCo states that copies of the filing were served upon WPS, WP&L, the Public Service Commission of Wisconsin and the Michigan Public Service Commission.

Comment Date: January 21, 2003.

12. Calpine California Equipment Finance Company, LLC

[Docket No. ES03-17-000]

Take notice that on December 18, 2002, Calpine California Equipment Finance Company, LLC (Calpine Finance) submitted an application pursuant to section 204 of the Federal Power Act seeking authorization to issue long-term debt in an amount not to exceed $250 million.

Calpine Finance also requests a waiver of the Commission's competitive bidding and negotiated placement requirements at 18 CFR 34.2.

Comment Date: January 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 03-376 Filed 1-7-03; 8:45 am]

BILLING CODE 6717-01-P